DEPARTMENT OF COMMERCE

Foreign-Trade Zones Board [B-30-2020]

Foreign-Trade Zone (FTZ) 183—Austin, Texas, Notification of Proposed Production Activity, Rohr, Inc., (Aircraft Engine Parts), San Marcos, Texas

Rohr, Inc. (Rohr) submitted a notification of proposed production activity to the FTZ Board for its facility in San Marcos, Texas. The notification conforming to the requirements of the regulations of the FTZ Board (15 CFR 400.22) was received on May 8, 2020.

The applicant indicates that it will be submitting a separate application for FTZ designation at the company's facility under FTZ 183. The facility is used for the production of aircraft engine parts. Pursuant to 15 CFR 400.14(b), FTZ activity would be limited to the specific foreign-status materials and components and specific finished products described in the submitted notification (as described below) and subsequently authorized by the FTZ Board.

Production under FTZ procedures could exempt Rohr from customs duty payments on the foreign-status components used in export production. On its domestic sales, for the foreign-status materials/components noted below, Rohr would be able to choose the duty rate during customs entry procedures that applies to parts of turbofan engine exhaust systems (kits, nozzles, center body assemblies) and parts of nacelles (fan cowl doors, thrust reverser translating sleeves, inlet cowls, thrust reversers) (duty-free). Rohr would be able to avoid duty on foreign-status components which become scrap/waste. Customs duties also could possibly be deferred or reduced on foreign-status production equipment.

The components and materials sourced from abroad include: Stainless steel spacers; articles of nickel alloy (bolts, bushings, shear pins, spacers, washers, bolt retainers, end caps); nickel alloy fastener sets (consisting of nuts, bolts, washers, and fastener retainers); titanium link arms; titanium link pin retainers; exhaust nozzle components (attachment rings, closeout rings, flanges, frames, rings, stiffener rings); fan cowl longerons; fan cowl panels; inlet cowl panels; and, translating sleeve components (access panels, fairing sliders, panels, pressure shells) (duty rate ranges from duty-free to 3.5%). The request indicates that certain materials/components are subject to special duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is June 30, 2020.

A copy of the notification will be available for public inspection in the “Reading Room” section of the Board's website, which is accessible via www.trade.gov/ftz.

For further information, contact Diane Finver at Diane.Finver@trade.gov or (202) 482-1367.

Dated: May 18, 2020.
Andrew McGilvray,
Executive Secretary.

[FR Doc. 2020-10983 Filed 5-20-20; 8:45 am]

BILLING CODE 3510-DS-P